FEDERAL COMMUNICATIONS COMMISSION

Information Collection Being Submitted to the Office of Management and Budget (OMB) for Emergency Review and Approval

AGENCY: Federal Communications Commission.

ACTION: Notice and request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before April 5, 2012. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION: The Commission is requesting emergency OMB processing of the new information collection requirements contained in this notice. The Commission is requesting OMB approval by March 30, 2012.

OMB Control Number: 3060-0819.

Title: Sections 54.400 through 54.707, Lifeline Assistance (Lifeline) Connection Assistance (Link-Up) Reporting Worksheet and Instructions.

Form No.: FCC Form 497.

Type of Review: Revision of a currently approved collection.

Respondents: Individuals or households and business or other for-profit.

Number of Respondents: 13,500,940 respondents; 40,035,705 responses.

Estimated Time per Response: .25 hours to 50 hours.

Frequency of Response: On Occasion, Biennially, Monthly, and Annual reporting requirements, third party disclosure requirements and recordkeeping requirements.

Obligation to Respond: Required to obtain or retain benefits. Statutory authority for this information collection is contained in 47 U.S.C. Sections 1, 4(i), 201-205, 214, 254, and 403 of the Communications Act of 1934, as amended.

Total Annual Burden: 30,729,935 hours.

Total Annual Cost: N/A.

Privacy Act Impact Assessment: N/A.

Nature and Extent of Confidentiality: The Commission is not requesting that respondents submit confidential information to the Commission. We note that USAC must preserve the confidentiality of all data obtained from respondents and contributors to the universal service support program mechanism; must not use the data except for the purposes of administering the universal service program; and must not disclose data in company-specific form unless directed to do so by the Commission.

Needs and Uses: The Commission will submit this revised information collection to the Office of Management and Budget (OMB) during this 30 day comment period in order to obtain emergency approval from them. The Commission is requesting emergency OMB approval for this revised information collection by March 30, 2012.

This collection of information is critical to the prevention of waste, fraud and abuse of the Universal Service Fund (USF or Fund). Among other things, the Lifeline Reform Report and Order, (Order), FCC 12-11, adopts rules to eliminate waste and inefficiency, increase accountability, and transition the Fund from supporting stand-alone telephone service to broadband. The reforms adopted in the Order substantially strengthen protections against waste, fraud, and abuse; improve program administration and accountability; improve enrollment and consumer disclosures, and constrain the growth of the program in order to reduce the burden on all who contribute to the Fund. The Commission has set a budget target to eliminate $200 million in waste in 2012, which is dependent on certain rules going into effect as soon as possible. Among other things, the Commission has revised the FCC Form 497; incorporate the information collection requirements contained in OMB Control Number 3060-0774 into this information collection; removed or consolidated all low-income requirements requiring approval or revision into this submission; revised the certification of eligibility upon enrollment; revised annual reporting requirements; revised verification of continued eligibility (now referred to as Annual Recertification of Consumer Eligibility; revised resolution of duplicative claims; and adopt maintenance of National Lifeline Accountability database. Therefore, it is essential that the OMB grant this request for emergency processing of this revised information collection.

Federal Communications Commission.
Bulah P. Wheeler,
Deputy Manager, Office of the Secretary, Office of Managing Director.

[FR Doc. 2012-5359 Filed 3-5-12; 8:45 am]

BILLING CODE 6712-01-P